DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. chapter 35). To request a copy of these documents, call the SAMHSA Reports Clearance Officer on (301) 443-7978.

Community Mental Health Services Block Grant Application Guidance and Instructions, FY 2002-2004—(OMB No. 0930-0168, Revision)—Sections 1911 through 1920 of the Public Health Service Act (42 U.S.C. 300x-1 through 300x-9) provide for annual allotments to assist States to establish or expand an organized, community-based system of care for adults with serious mental illness and children with serious emotional disturbances. Under the provisions of the law, States may receive allotments only after an application is submitted and approved by the Secretary of the Department of Health and Human Services.

For the federal fiscal year 2002-2004 Community Mental Health Services Block Grant application cycles, SAMHSA will provide States with revised application guidance and instructions. These changes affect several areas of the application and add a new section to accommodate reporting of uniform data on the public mental health system. Revisions to the previously approved application include: (1) A table for listing mental health planning council membership in order to determine whether the membership and threshold requirements of the law (42 U.S.C. 300x-4) are being met; (2) several minor changes in the format, including moving the report required under 42 U.S.C. 300x-52 to the Implementation Report; and, (3) addition of a new section requesting States to report uniform data on their public mental health systems with a focus on community mental health services, along with a State-level reporting system capacities checklist in order to ascertain States' ability to report uniform data. This new section has been developed through a collaborative partnership and consultation with a data working group consisting of representatives from the National Association of State Mental Health Program Directors, State level data experts and consumer representatives.

In response to comments received on the draft for the FY 2002 application, a number of changes have been made to the application. Several tables have been deleted and most other tables have been revised. SAMHSA has also increased its burden estimate for the new section on uniform data.

States continue to have the option to submit an application with a one-year plan, a two-year plan, or a three-year plan. Annual response burden on States depends on whether they submit a one-, two-, or three-year plan. The following table summarizes the annual burden for the revised application.

Part of application | Number of respondents | Responses per respondent | Burden per response (hrs.) | Total burden
Plan (Sections I-III):
One-year plan | 33 | 1 | 180 | 5,940
Two-year plan | 12 | 1 | 150 | 1,800
Three-year plan | 14 | 1 | 110 | 1,540
Implementation Report (Section IV) | 59 | 1 | 80 | 4,720
Data Tables & Checklist (Section V) | 59 | 1 | 40 | 2,360
Total | 59 |  |  | 16,360

Written comments and recommendations concerning the proposed information collection should be sent within 30 days of this notice to: Stuart Shapiro, Human Resources and Housing Branch, Office of Management and Budget, New Executive Office Building, Room 10235, Washington, DC 20503.

Dated: April 10, 2001.
Richard Kopanda,
Executive Officer, SAMHSA.

[FR Doc. 01-10376 Filed 4-25-01; 8:45 am]

BILLING CODE 4162-20-P